DEPARTMENT OF COMMERCE

National Oceanic and Atmospheric Administration

[I.D. 010600B]

Incidental Take of Marine Mammals; Taking of Ringed Seals Incidental to On-ice Seismic Activities

AGENCY: National Marine Fisheries Service (NMFS), National Oceanic and Atmospheric Administration (NOAA), Commerce.

ACTION: Notice of issuance of letters of authorization.

SUMMARY: In accordance with the Marine Mammal Protection Act (MMPA), as amended, and with implementing regulations, notification is hereby given that letters of authorization to take ringed and bearded seals incidental to on-ice seismic operations in the Beaufort Sea off Alaska was issued on January 28, 2000, to Western Geophysical and Kuupik/Fairweather Geophysical, both of Anchorage, AK.

DATES: These letters of authorization are effective from January 28, 2000, through May 31, 2000.

ADDRESSES: The applications and letters are available for review in the following offices: Office of Protected Resources, NMFS, 1315 East-West Highway, Silver Spring, MD 20910, and Western Alaska Field Office, NMFS, 701 C Street, Anchorage, AK 99513.

FOR FURTHER INFORMATION CONTACT: Kenneth R. Hollingshead, NMFS, (301) 713-2055, ext 128 or Brad Smith, Western Alaska Field Office, NMFS, (907) 271-5006.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “taking” means to harass, hunt, capture, or kill or to attempt to harass, hunt, capture or kill marine mammals.

Permission may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements pertaining to the monitoring and reporting of such taking. Regulations governing the taking of ringed and bearded seals incidental to on-ice seismic surveys were published on February 2, 1998 (63 FR 5277), and remain in effect until December 31, 2002.

Summary of Request

NMFS received requests for letters of authorization on September 23, and October 14, 1999, from Western Geophysical, and on October 15, 1999 from Kuupik/Fairweather. These letters request a take by harassment of a small number of ringed seals incidental to conducting vibroseis surveys in the Beaufort Sea off Alaska.

Issuance of these letters of authorization are based on findings that the total takings by this activity will have a negligible impact on the ringed seal stocks of the Western Beaufort Sea and that the applicants have met the requirements contained in the implementing regulations, including monitoring and reporting requirements.

Dated: January 28, 2000.
Donald R. Knowles,
Director, Office of Protected Resources, National Marine Fisheries Service.

[FR Doc. 00-2274 Filed 2-1-00; 8:45 am]

BILLING CODE 3510-22-F